DEPARTMENT OF DEFENSE

Office of the Secretary

Establishment of the Defense Advisory Committee on Military Compensation

ACTION: Notice of establishment.

SUMMARY: The Defense Advisory Committee on Military Compensation is being established in consonance with the public interest and in accordance with the provisions of Pub. L. 92-463, the “Federal Advisory Committee Act,” Title 5 U.S.C., Appendix 2. This advisory committee will provide advice and recommendations to the Secretary of Defense regarding matters pertaining to military compensation. The Committee shall identify approaches to balance military pay and benefits in sustaining recruitment and retention of high-quality people, as well as a cost-effective and ready military force.

The Committee will consist of a balanced membership of seven members from the private sector selected on the basis of their preeminence in the fields of military compensation. The members will be appointed by the Secretary of Defense.

FOR FURTHER INFORMATION CONTACT: Sheila Earle, OUSD (Personnel & Readiness), 703-697-8245.

Dated: February 18, 2005.
Jeannette Owings-Ballard,
OSD Federal Register Liaison Officer, Department of Defense.

[FR Doc. 05-3656 Filed 2-24-05; 8:45 am]

BILLING CODE 5001-06-M